ENVIRONMENTAL PROTECTION AGENCY

[FRL-7882-1]

Peer Consultation Workshop on Research Needs Related to the IRIS Draft Toxicological Review of Naphthalene

AGENCY: Environmental Protection Agency.

ACTION: Notice of peer consultation workshop.

SUMMARY: The U.S. Environmental Protection Agency (EPA) is announcing that the Oak Ridge Institute of Science and Education (ORISE), Department of Energy, under an Interagency Agreement with EPA, will organize and conduct a workshop to seek expert opinion on the research needs related to the mode of action of the inhalation carcinogenicity of naphthalene. Meeting participants will be provided with the “Final Report on the External Peer Review for the IRIS Reassessment of the Inhalation Carcinogenicity of Naphthalene (August 2004),” the external review draft document entitled, “Toxicological Review of Naphthalene: In Support of Summary Information on the Integrated Risk Information System (IRIS)” (NCEA-S-1707), and a list of recent naphthalene publications. Members of the public may attend as observers. EPA will consider the comments and recommendations from the expert panel in determining a future course of action for assessing potential health risks associated with naphthalene exposure.

DATES: The workshop will begin on April 7, 2005, at 9 a.m. and end at 4 p.m. To attend the meeting, register by April 1, 2005.

ADDRESSES: The workshop will be held at the Graduate School of Public Health, 130 DeSoto Street, Room 109 Parran Hall, University of Pittsburgh, Pittsburgh, PA 15261. Under an Interagency Agreement between EPA and the Department of Energy, the Oak Ridge Institute of Science and Education (ORISE) is organizing, convening, and conducting the workshop. To attend the meeting, register by April 1, 2005, by contacting ORISE, P.O. Box 117, MS 17, Oak Ridge, TN 37831-0117, at (865) 241-5784 or (865) 241-3168 (facsimile). Interested parties may also register on-line at: http://www.orau.gov/naphthalene. Space is limited, and reservations will be accepted on a first-come, first-served basis.

The documents related to the workshop, “Final Report on the External Peer Review for the IRIS Reassessment of the Inhalation Carcinogenicity of Naphthalene (August 2004)”, “Draft Toxicological Review of Naphthalene: In Support of Summary Information on the Integrated Risk Information System (IRIS) (NCEA-S-1707),” and “List of Recent Naphthalene Literature,” are available in limited paper copies by contacting the IRIS Hotline at (202) 566-1676 or (202) 566-1749 (facsimile), hotline@iris.gov (e-mail). If you are requesting paper copies, please provide your name, mailing address, and the document title and number, if applicable. Copies are not available from ORISE.

FOR FURTHER INFORMATION CONTACT: Questions regarding registration and logistics should be directed to Leslie Shapard, ORISE, P.O. Box 117, MS 17, Oak Ridge, TN 37831-0117, at (865) 241-5784 or (865) 241-3168 (facsimile), shapardl@orau.gov (e-mail).

If you have questions about the workshop documents, contact Lynn Flowers, IRIS Staff, National Center for Environmental Assessment, 1200 Pennsylvania Avenue, NW. (8601 D), Washington, DC 20460; telephone: 202-564-1537; facsimile: 202-565-0075; flowers.lynn@epa.gov (e-mail).

SUPPLEMENTARY INFORMATION:

Integrated Risk Information System (IRIS)

IRIS is a database that contains information on the potential adverse human health effects that may result from chronic (or lifetime) exposure to specific chemical substances found in the environment. The database (available on the Internet at http://www.epa.gov/iris) contains qualitative and quantitative health effects information for more than 500 chemical substances that may be used to support the first two steps (hazard identification and dose-response evaluation) of the risk assessment process. When supported by available data, the database provides oral reference doses (RfDs) and inhalation reference concentrations (RfCs) for chronic health effects, and oral slope factors and inhalation unit risks for carcinogenic effects. Combined with specific exposure information, government and private entities use IRIS to help characterize public health risks of chemical substances in a site-specific situation and thereby support risk management decisions designed to protect public health.

EPA's IRIS program is developing a health assessment on naphthalene carcinogenicity. A draft assessment was peer reviewed in July, 2004. One of the topics discussed at the peer review workshop was the need for further research to elucidate naphthalene's carcinogenic mode of action. The Agency has decided to hold a peer consultation workshop on this topic before determining a course of action on the IRIS assessment of naphthalene. This action provides public notice of the workshop.

EPA's E-Docket

EPA has established an official public docket for this action under Docket ID No. ORD-2005-0008. The official public docket consists of the documents specifically referenced in this action and other information related to this action. Although a part of the official docket, the public docket does not include Confidential Business Information (CBI) or other information whose disclosure is restricted by statute. The official public docket is the collection of materials that is available for public viewing at the Office of Environmental Information (OEI) Docket in the Headquarters EPA Docket Center, (EPA/DC) EPA West Building, Room B102, 1301 Constitution Ave., NW., Washington, DC. The EPA Docket Center Public Reading Room is open from 8:30 a.m. to 4:30 p.m., Monday through Friday, excluding legal holidays. The telephone number for the Public Reading Room is 202-566-1744, and the telephone number for the OEI Docket is 202-566-1752; facsimile: 202-566-1753; or e-mail: ORD.Docket@epa.gov.

An electronic version of the public docket is available through EPA's electronic public docket and comment system, EPA Dockets. You may use EPA Dockets at http://www.epa.gov/edocket/ to access the index listing of the contents of the official public docket. Once in the system, select “search,” then key in the appropriate docket identification number.

Certain types of information will not be placed in the EPA Dockets. Information claimed as CBI and other information whose disclosure is restricted by statute, which is not included in the official public docket, will not be available for public viewing in EPA's electronic public docket. EPA's policy is that copyrighted material will not be placed in EPA's electronic public docket but will be available only in printed, paper form in the official public docket.

Dated March 2, 2005.
Peter W. Preuss,
Director, National Center for Environmental Assessment.

[FR Doc. 05-4472 Filed 3-7-05; 8:45 am]

BILLING CODE 6560-50-P